DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services as amended most recently at 67 FR 57830, September 12, 2002 is amended to: replace the functional statement of two divisions of the Center for Substance Abuse Prevention (CSAP), the Division of State and Community Systems Development and the Division of Knowledge Application and Systems Improvement; replace the functional statement of the Division of Prevention Education and Dissemination and rename the Division as the Division of Prevention Education. There are no changes to the Division of Workplace Programs. The changes are to update and realign CSAP organizational structure to strengthen CSAP's programs and allow CSAP to more effectively manage the mission of SAMHSA. The changes are as follows:

Section M.20, Functions is amended as follows:

Under the heading, Division of State and Community Systems Development (MPB), delete the functional statement and substitute the following functional Statement:

The Division of State and Community Systems Development (DSCSD) is responsible for carrying out the Center's responsibilities related to development of States and communities capacity to provide and implement effective substance abuse prevention. As such the Division (1) promotes and establishes comprehensive, long-term State and community alcohol, tobacco, and other drug abuse prevention/intervention strategies, programs, and support activities; (2) plans, develops and administers nationwide programs to enhance comprehensive and effective State and community substance abuse prevention systems, drug prevention coalitions and related health promotion systems; (3) administers the primary prevention set-aside of the Substance Abuse Prevention and Treatment (SAPT) block grant; (4) provides leadership in the transition to and implementation of Performance Partnership Grants; (5) promotes interagency collaboration with both the public and private sectors at the Federal, State and local levels; (6) develops and integrates needs assessment and management information system data into State and community prevention systems for the improvement of planning efforts in substance abuse prevention nationally; (7) administers the Synar regulations governing youth access to tobacco products; and (8) provides overall support, training and technical assistance in integrating effective substance abuse prevention into health care systems.

Under the heading, Division of Knowledge Application and Systems Improvement (MPC), delete the functional statement and substitute the following functional statement:

The Division of Knowledge Application and Systems Improvement (DKASI) is responsible for carrying out the Center's science-to-services agenda. In this capacity, the Division (1) provides leadership in the identification of effective substance abuse prevention programs, practices, and strategies, and their dissemination, adoption and adaptation, and evaluation at the State and community level; (2) actively collaborates with other Federal and State and local governments to promote the adoption of science-based prevention programs and practices; (3) advances substance abuse prevention, HIV/AIDS and emergent substance abuse issues agenda; and (4) represents CSAP in the development of SAMHSA's extramural policy.

Under the heading, Division of Prevention Education and Dissemination (MPF), delete the functional statement, rename the Division as the Division of Prevention Education and substitute with the following functional statement:

The Division of Prevention Education (DPE) is responsible for carrying out the Center's health promotion and public education activities. The Division carries this out through (1) leadership to the Center in the development of health promotion and education publication, products, and materials as well as through information technologies such as PREVLine, and other CSAP Web-based and Internet and Intranet venues; (2) builds upon and collaborates with the efforts of other Federal or private sector prevention initiatives in developing and disseminating targeted prevention materials, products, tool kits, etc., tailored to the specific audiences and/or specific prevention topics targeted by these prevention initiatives; (3) promotes public education through the operation of the SAMHSA/CSAP National Clearinghouse for Alcohol and Drug Information, the Regional Alcohol and Drug Awareness Resource Network, and the Prevention component within the SAMHSA Conference Grant Program; (4) initiates, develops, implements, and evaluates program efforts (which may include developing materials and technologies) in support of workforce development, for both internal (CSAP staff) and external substance abuse prevention professionals; and (5) provides liaison and coordination with the SAMHSA Office of Communications, other SAMHSA Centers and Offices, and relevant DHHS components, as appropriate, on substance abuse prevention and health communications issues.

Section M.40, Delegations of Authority: All delegations and redelegations of authority to officers and employees of SAMHSA which were in effect immediately prior to the effective date of this reorganization shall continue in them.

These organizational changes are effective January 17, 2003.

Dated: February 21, 2003.
Charles G. Curie,
Administrator.

[FR Doc. 03-6456 Filed 3-17-03; 8:45 am]

BILLING CODE 4160-01-P